DEPARTMENT OF THE INTERIOR

Bureau of Land Management

[LLNVSO0000 L51010000 ER0000 LVRWF13F8740.241A; MO# 4500061313; 14-08807;]

Notice to Extend Mineral Segregation for the Searchlight Wind Energy Project, Clark County, NV

AGENCY: Bureau of Land Management, Interior.

ACTION: Notice.

SUMMARY: This notice serves to extend the segregation of the identified lands for an additional 6 months from appropriation under the public land laws, including location under the Mining Law, but not the Mineral Leasing Act or the Materials Act, subject to valid existing rights. This segregation extension is warranted to allow for the orderly administration of the public lands to facilitate the development of valuable renewable resources and to avoid conflicts between renewable energy generation and mining claims.

DATES: This segregation extension for the lands identified in this notice is effective on January 17, 2014.

FOR FURTHER INFORMATION CONTACT: Gregory Helseth, Renewable Energy Project Manager, 702-515-5173; 4701 North Torrey Pines Drive, Las Vegas, NV 89130-2301; email: BLM_NV_SNDO_SearchlightWindEnergyEIS@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Searchlight Wind Energy, LLC (SWE), a wholly owned subsidiary of Duke Energy, applied to the BLM for a right-of-way (ROW) grant on public lands to develop a 200-megawatt (MW) wind energy facility. The ROW application area encompasses approximately 18,789.71 acres of BLM-administered public lands adjacent to Searchlight, located approximately 60 miles southeast of Las Vegas, in Clark County, Nevada. The project is in conformance with the 1998 Las Vegas Resource Management Plan.

Segregation of Lands: A Final Rule, published in the Federal Register (78 FR 25204) on April 30, 2013, amended the BLM regulations found in 43 CFR part 2090 and 2800 providing provisions allowing the BLM to temporarily segregate from the operation of the public land laws, by publication of a Federal Register notice, public lands included in a pending wind energy generation ROW application in order to promote the orderly administration of the public lands. The Final Rule for segregation allows a State Director to extend the project-specific segregation if that segregation would expire before a decision can be made.

The initial 2-year segregation would expire on January 20, 2014. The segregation is necessary to prevent the filing of mining claims in the project area that would hinder the development of the project and increase costs to the development of the project. This temporary segregation extension does not affect valid existing rights in mining claims located before this segregation notice. Licenses, permits, cooperative agreements, or discretionary land use authorizations of a temporary nature which would not impact lands identified in this notice may be allowed with the approval of an authorized officer of the BLM during the segregative period. The lands segregated under this notice are legally described as follows:

Mount Diablo Meridian

T. 28 S., R. 63 E.,

Sec. 22, that portion of the E½SE¼ lying east of the easterly right-of-way of S.R. 95 NVCC-020733;

Sec. 23, that portion lying east of the easterly right-of-way of S.R. 95 NVCC-020733, excepting Patent No. 27-72-0013, and patented mineral surveys;

Sec. 24, excepting patented mineral surveys;

Sec. 25, excepting patented mineral surveys;

Sec. 26, excepting patented mineral surveys;

Sec. 27, those portions of lots 1, 8, 9, 10, 14, and 15 lying east of the easterly right-of-way of S.R. 95 NVCC-020733.

T. 29 S., R. 63 E.,

Sec. 1;

Sec. 11, that portion lying east of airport leases NEV-065340 and N-81843;

Sec. 13;

Sec. 14, that portion lying east of the easterly right-of-way of S.R. 95 NVCC-020845, excepting airport lease NEV-065340;

Sec. 24, that portion lying east of the easterly right-of-way of S.R. 95 NVCC-020845;

Sec. 25, that portion lying east of the easterly right-of-way of S.R. 95 NVCC-020845.

T. 28 S., R. 64 E.,

Secs. 19 and 20;

Sec. 26, those portions of the N½NE¼SW¼, N½NW¼SW¼, and W½NW¼NW¼SE¼, lying north of the northerly right-of-way of Cottonwood Cove Road;

Secs. 27 and 28;

Sec. 29, excepting patented mineral surveys;

Sec. 30, excepting patented mineral surveys;

Sec. 31, excepting patented mineral surveys;

Sec. 32, excepting patented mineral surveys;

Secs. 33 and 34.

T. 29 S., R. 64 E.,

Sec. 4;

Sec. 5, excepting patented mineral surveys;

Secs. 6 to 8 inclusive, 17 to 20 inclusive, and 29 and 30.

The area described contains 18,789.71 acres, more or less, in Clark County, Nevada. The segregation extension of lands identified in this notice will not exceed 6 months from the date of publication. Termination of the segregation, as provided in the Final Rule, is the date that is the earliest of the following: Upon issuance of a decision by the authorized officer granting, granting with modifications, or denying the application for a ROW; automatically at the end of the six month segregation; or upon publication of a Federal Register notice of termination of the segregation.

Upon termination of segregation of these lands, all lands subject to this segregation will automatically reopen to appropriation under the public land laws.

(Authority: 43 CFR 2800 and 2090).

Amy Lueders,
State Director.

[FR Doc. 2014-00885 Filed 1-16-14; 8:45 am]

BILLING CODE 4310-HC-P